FARM CREDIT ADMINISTRATION

12 CFR Parts 604, 607, 612, 614, 615, 618, and 627

RIN 3052-AC63

Farm Credit Administration Board Meetings; Assessment and Apportionment of Administrative Expenses; Standards of Conduct and Referral of Known or Suspected Criminal Violations; Loan Policies and Operations; Funding and Fiscal Affairs, Loan Policies and Operations, and Funding Operations; General Provisions; and Title IV Conservators, Receivers, and Voluntary Liquidations; Technical Changes

AGENCY: Farm Credit Administration.

ACTION: Notice of effective date.

SUMMARY: The Farm Credit Administration (FCA or Agency), through the FCA Board (Board), issued a direct final rule with opportunity for comment on June 24, 2010, amending our regulations to eliminate unnecessary, redundant or outdated regulations, to correct cross-reference errors, and to clarify the intent of a regulatory provision. The opportunity for comment expired on July 26, 2010. The FCA received no comments and therefore, the direct final rule becomes effective without change. In accordance with 12 U.S.C. 2252, the effective date of the direct final rule is 30 days from the date of publication in the Federal Register during which either or both Houses of Congress are in session. Based on the records of the sessions of Congress, the effective date of the regulations is September 20, 2010.

DATES: Effective Date: Under the authority of 12 U.S.C. 2252, the regulation amending 12 CFR parts 604, 607, 612, 614, 615, 618, and 627 published on June 24, 2010 (75 FR 35966) is effective September 20, 2010.

FOR FURTHER INFORMATION CONTACT:

Jacqueline R. Melvin, Policy Analyst, Office of Regulatory Policy, Farm Credit Administration, McLean, Virginia 22102-5090, (703) 883-4498, TTY (703) 883-4434,

or

Mary Alice Donner, Senior Attorney, Office of General Counsel, Farm Credit Administration, McLean, Virginia 22102-5090, (703) 883-4020, TTY (703) 883-4020.

SUPPLEMENTARY INFORMATION: The Farm Credit Administration (FCA or Agency), through the FCA Board (Board), issued a direct final rule with opportunity for comment under parts 604, 607, 612, 614, 615, 618, and 627 on June 24, 2010 (75 FR 35966) amending our regulations to eliminate unnecessary, redundant or outdated regulations, to correct cross-reference errors, and to clarify the intent of a regulatory provision. The opportunity for comment expired on July 26, 2010. The FCA received no comments and therefore, the direct final rule becomes effective without change. In accordance with 12 U.S.C. 2252, the effective date of the direct final rule is 30 days from the date of publication in the Federal Register during which either or both Houses of Congress are in session.

The direct final rule carries out the FCA Board's commitment to the principles contained in the Board's Policy Statement on Regulatory Philosophy, which includes the elimination of outdated regulations and technical amendments to ensure that regulations are accurate. In furtherance of that objective, the June 24, 2010, rule makes a number of technical changes to the agency's regulations.

(12 U.S.C. 2252(a)(9) and (10))

Dated: September 20, 2010.
Roland E. Smith,
Secretary, Farm Credit Administration Board.

[FR Doc. 2010-23976 Filed 9-24-10; 8:45 am]

BILLING CODE 6705-01-P